DEPARTMENT OF LABOR

Employment and Training Administration

Grants for Implementing Disability Information Technology (IT) Initiative

AGENCY: Employment and Training Administration (ETA), Labor.

ACTION: Notice of availability of funds and solicitation for grant applications (SGA).

This Notice Contains All of the Necessary Information and Forms Needed to Apply for Grant Funding.

SUMMARY: The U.S. Department of Labor, Employment and Training Administration (DOL/ETA) announces the availability of approximately $2.8 million in competitive grant funds for information technology skills training for people with disabilities.

DATES: Applicants will be accepted commencing on the date of publication. The closing date for receipt of applications under this announcement is Tuesday, May 15, 2001 at 4 pm Eastern Daylight Time (EDT) at the address below.

ADDRESSES: Applications shall be mailed to the U.S. Department of Labor, Employment and Training Administration, Division of Federal Assistance, Attention: B. Jai Johnson, SGA/DFA 01-107. 200 Constitution Avenue, NW., Room S-4203, Washington, DC. 20210. Applications that do not meet the conditions set forth in this notice will not be honored. Telefacsimile (FAX) applications will not be honored.

Hand Delivered Proposals. It is preferred that applications be mailed at least five days before the closing date (see “Late Proposals” section below). To be considered for funding, hand delivered proposals must be received at the address identified above by 4 p.m. (Eastern Daylight Time) Tuesday, May 15, 2001. All overnight express mail will be considered to be hand delivered and must be received at the designated place by the specified time on the closing date. Grant applications transmitted by electronic mail, telegraph or facsimile will not be considered. Failure to adhere to the above instructions will be a basis for a determination of non responsiveness.

Late Proposals. Any application received after the exact date and time specified for receipt at the office designated in this notice will not be considered, unless it is received before awards are made and it—

• Was sent by U.S. Postal Service registered or certified mail not later than the fifth calendar day before the date specified for receipt of applications (e.g., an application submitted in response to a solicitation requiring receipt of applications by the 20th of the month must have been mailed/post marked by the 15th of that month); or

• Was sent by the U.S. Postal Service Express Mail Next Day Service, Post Office to Addressee, not later than 5:00 p.m. at the place of mailing two working days prior to the deadline date specified for receipt of applications in this SGA. The term “working days” excludes weekends and Federal holidays.

The only acceptable evidence to establish the date of mailing of an application received after the deadline date for the receipt of proposals sent by the U.S. Postal Service and on the original receipt from the U.S. Postal Service. The term “Post marked” means a printed, stamped or otherwise placed impression (exclusive of a postage meter machine impression) that is readily identifiable, without further action, as having been supplied or affixed on the date of mailing by an employee of the U.S. Postal Service.

Withdrawal of Applications. Applications may be withdrawn by written notice or telegram (including mail gram) received at any time before an award is made. Applications may be withdrawn in person by the applicant or by an authorized representative thereof, if the representative's identity is made known and the representative signs a receipt for the proposal.

FOR FURTHER INFORMATION CONTACT: Questions should be faxed to B. Jai Johnson at (202) 693-2879 (this is not a toll-free number). All inquiries should include the SGA number 01-107, and a contact name, fax, and telephone numbers. This solicitation is also being published on the Internet at ETA's home page at http://www.doleta.gov and at ETA's disAbility Online website at http://www.wdsc.org/disability (click on “Grantee Communication” to access these forms). Award notifications will also be published on both the ETA home page and the disAbility Online website.

SUPPLEMENTARY INFORMATION

A. Authority

Funds made available for this Solicitation for Grant Application are authorized under the Workforce Investment Act of 1998, section 171 (c) and (d). Approximately $1.16 million of the total funds available for this grant award are dislocated worker funds.

This announcement consists of five parts:

• Part I—Application Process

• Part II—Background and Purpose

• Part III—Review Process, Evaluation Criteria and Statement of Work

• Part IV—Government Requirements, and

• Part V—Definitions.

Part I.—Application Process

A. Eligible Applicants

Eligible applicants must be a consortium of public, private non-profit and for-profit entities. The Local Workforce Investment Board(s) (Local Boards) and the local One-Stop Center(s) must be included in the consortium. Applicants must obtain and provide letters of commitment from Local Boards. Representatives from the information technology business community, and representatives from the disability advocacy community or with expertise in services to people with disabilities should also be represented in the consortium.

The consortium members should contribute substantively to the overall goals and objectives of this solicitation. Representation should include corporate and academic entities that possess a sound grasp of the information technology job market in the region, are able to address the issue of information technology skill shortages, and have expert knowledge of the academic, professional, technical or other training requirements for information technology careers. Such organizations may include private for-profit information technology business enterprises—including small and medium-size businesses; Business Leadership Networks; industry associations such as local Chambers of Commerce and small business federations; local affiliates of national associations such as Information Technology Association of America (ITAA); and labor unions. Disability representation may include participation of Centers for Independent Living, Disability Business and Technical Assistance Centers, Rehabilitation Technology Centers, and national or regional non-profit organizations which are advocates for, or provide services to, people with disabilities. Consortia members may also include other Workforce Investment Act programs partners.

Local Workforce Investment Boards that share common economic goals may band together as one applicant rather than applying individually. Applicants may also submit grant applications for multi-site projects, i.e., projects that will provide employment and training services in different areas of the country.

Indian and native Tribal entities, or consortia of Tribes, may apply for Information Technology Initiative Grants. In such cases, letters of commitment from Local Boards may not be applicable because of sovereignty and self-governance of Tribal entities established under the Indian Self-Determination and Education Assistance Act allowing for the government to government relationship between the Federal and Tribal Governments.

All applications must clearly identify the lead agent and fiscal agent, and other members of the Consortium applying for the grant. The application must identify who the grant recipient (and/or fiscal agent) is and describe its capacity to administer this project. It must indicate that the project is consistent with and will be coordinated with the workforce investment system(s) that are involved in technical skills activities in the region(s) encompassed by the application.

Note: Except as specifically provided, DOL/ETA acceptance of a proposal and an award of federal funds to sponsor any program(s) does not provide a waiver of any grant requirements and/or procedures. For example, the OMB circulars require an entity's procurement procedures must require that all procurement transactions shall be conducted, as practical, to provide open and free competition. If a proposal identifies a specific entity to provide the services, the DOL/ETA's award does not provide the justification or basis to sole-source the procurement, i.e., avoid competition.

B. Submission of Proposals

Applicants must submit four (4) copies with original signatures. A proposal shall consist of two (2) separate and distinct sections. Section I, the Financial Proposal shall contain the SF-424, “Application for Federal Assistance,” (Appendix A) and Budget Information Form (Appendix B).

In addition, the budget shall include on a separate page a detailed cost analysis of each line item. Administrative costs should not exceed 15 percent of total proposed costs. Justification must be provided on the need for administrative costs that exceed this limit. Approval of a budget by DOL is not the same as approval of actual costs. The Catalog of Federal Domestic Assistance number is 17.261. Applicants shall indicate on the SF-424 the organization's IRS status, if applicable. According to the Lobbying Disclosure Act of 1995, section 18, an organization described in section 501(c)(4) of the Internal Revenue Code of 1986 which engages in lobbying activities shall not be eligible for the receipt of federal funds constituting an award, grant or loan. The individual signing the SF-424 on behalf of the applicant must represent the responsible financial and administrative entity for a grant should that application result in an award. The budget must include, on a separate page, a detailed breakout of each line item. Section II, the Technical Proposal, will demonstrate the applicant's capabilities in accordance with the Statement of Work in Part III of this solicitation. This must be organized to follow the evaluation criteria. No cost data or reference to costs shall be included in the Technical Proposal. In addition, the Technical Proposal shall be limited to 20 doubled-spaced, single-side, 8.5 inch x 11 inch pages with 1 inch margins. Appendices shall not exceed 10 pages, and may include charts, graphs, staff resumes, composition of advisory boards, and other supporting documents. Required letters of commitment from Local Boards should be included in the appendix rather than in Section I. Letters of commitment from other partnered entities should also be included. Text type shall be 12 point or larger. Applications not meeting these requirements may not be considered. The Technical Proposal must also contain participant, activity and outcome information.

C. Scope of Award

DOL/ETA anticipates making approximately 5-9 awards, ranging from $300,000 to $600,000. Proposals are not to exceed $600,000.

D. Period of Performance

The initial period of performance will be 12 months from the date of execution by the Government. Based on the availability of funds, project performance and needs, the Department may elect to exercise its option to extend these grants for up to two additional option years for a total not to exceed 36 months.

Part II—Background and Purpose

A. Background

This initiative builds upon similar ETA initiatives that address increasing the employment of people with disabilities in the information technology industry. It is also supportive of President Bush's New Freedom Initiative focused on helping people with disabilities by increasing access to assistive and universally designed technologies, expanding educational opportunities, integrating individuals with disabilities into the workforce, and promoting increased access into daily community life. Other ETA initiatives addressing the employment of people with disabilities include the Work Incentive Grants, which focus on enhancing One-Stop services for people with disabilities, and the Disability Employment Grants, which are focused on building partnerships with the One-Stop Center system, interagency coordination and innovative employment and training practices. The Department's Office of Disability Employment Policy, formerly the President's Committee for Employment of People with Disabilities, has also fostered the potential of the information technology employment sector with their High School/High Tech internship and mentoring program that is now in approximately 60 locations around the country. Please go to: http://wdsc.org/disability for more information on these initiatives.

The Department of Labor also recognizes the critical importance of a highly skilled workforce to the continued economic progress and well-being of the United States. ETA is the administering agency for the H1-B visa program and the resulting grant programs designed to train America's workers in those occupations experiencing skill shortages, in particular in the technology programming and technical support areas. With expectations that computer related applications will be a dominate force in the economic infrastructure of the United States in the foreseeable future, ETA is fostering relationships with technology related stakeholders such as the Information Technology Association of America and CompTIA to connect the workforce delivery system in a variety of capacities. These efforts include capacity building and linkage of the information technology business community with local providers and community based organizations who are important stakeholders in the delivery of training and employment services. ETA considers this Information Technology Skills Training solicitation to be aligned with these overarching goals of workforce readiness.

According to the White Paper entitled the IT Workforce Shortage and the Skills Gap, published jointly by the Computing Technology Industry Association (CompTIA), the Technology Workforce Coalition (TWC), and the National Cristina Foundation (NCF), the societal costs of the information technology skills gap are significant. Businesses lose opportunities, customers are not serviced, and opportunities are unmet. The information technology skills gap results in reduced economic prosperity, and suppresses wage growth, corporate earnings, and the tax base. The White Paper also points out that by simply focusing on the 300,000 positions that do not require a computer science degree, American society stands to benefit substantially if it can create effective programs to fill those positions. Training and certification for positions in the technology workforce such as computer technicians, networking, and Internet professional can be completed in 3-12 months.

There are approximately 54 million Americans with disabilities, 30 million of whom are of working age. Only 26% of working age adults with significant disabilities have a job or a business compared to 82% of those without disabilities (U.S. Bureau of the Census, Survey of Income and Program Participation, 1997). The US Department of Labor report, Futureworks points out that while educational attainment made some difference in the rate of unemployment for people with disabilities, the employment figures for workers with severe disabilities lie in sharp contrast to those for workers without disabilities. Among workers with college degrees, only 52% of those with severe disabilities reported labor market activity compared to 90% of those with no disability—a gap of 38 percentage points.

Title IV of the Workforce Investment Act, which amends the Rehabilitation Act, included several findings relating to ethnic and racial minorities as traditionally under-served populations in the vocational rehabilitation system (29 U.S.C. 718). Ethnic and racial minorities tend to have disabling conditions at a disproportionately high rate. The rate of work-related disability for Native Americans is about one and one-half times that of the general population. African-Americans are also one and one-half times more likely to be disabled than whites and twice as likely to be significantly disabled. According to the US Census Bureau's 1994-1995 data approximately 85.5% of African-Americans with severe disabilities and 75.4% of Hispanics with severe disabilities are not working. Individuals with disabilities who are members of other minority groups are also disproportionately represented among the unemployed. Among the reasons for the disproportionately high rate of unemployment are disparities in the rehabilitation services provided to minorities with disabilities, fewer educational opportunities, poor outreach to minority communities, and inadequate transportation and housing.

B. Purpose

The primary purpose of this award is to expand opportunities for information technology training and improve access to employment with long-term career potential in the information technology industry for people with disabilities, particularly those with severe disabilities. In addition, this solicitation seeks to foster the commitment and experience of the One-Stop system in the training and successful attainment of employment for people with disabilities, including supporting partnerships with (1) the business community to achieve quality program designs and placement outcomes, (2) academic institutions with expertise in information technology skill requirements, (3) and non-profit entities which may provide expertise regarding accessible technologies and accommodations or outreach. Non-duplication of existing services, and leveraging of scarce resources are also important factors.

DOL is seeking applications that address one or more of the following concerns: Strategies for training and employment of individuals with severe disabilities in the information technology industry, including those with a specific disabling condition or who also may be members of a subgroup (e.g., minorities, youth, older workers); strategies for re-employment of individuals with disabling conditions (e.g., brain/spinal cord injury from accident, emotional/psychiatric conditions, stroke, multiple sclerosis) resulting in dislocation from employment and a need for retraining; linkages with public (national, state and local) and/or private delivery systems; disability consumer organizations (e.g., independent living centers), and other entities that address significant employment barriers (e.g., lack of medical coverage, transportation needs, personal care requirements); linkages with existing service strategies that build on and facilitate workforce development and other systemic changes impacting individuals with disabilities (e.g., DOL Work Incentive Grant programs, Social Security's Ticket to Work Program, Welfare-to-Work implementation, Medicaid Infrastructure Grants); innovative approaches using technology, particularly assistive technology, innovative training and workplace strategies or other approaches (e.g., distance learning, computer based training, telecommuting, and entrepreneurship) which result in significant information technology skill development (e.g., certification in CompTIA's iNet or Net+, Microsoft Certified Systems Engineer, Networking, etc.), and significant employment outcomes related to the information technology industry.

DOL expects the awardee to evaluate the effectiveness of implementation strategies and refine their proposed project as it progresses. Refinements impacting the agreed upon Statement of Work must be coordinated with ETA. Any formal evaluation process will be performed by DOL; therefore, proposals need not identify evaluation strategies.

Part III.—Review Process, Evaluation Criteria and Statement of Work

A careful evaluation of applications will be made by a technical review panel who will evaluate the applications against the established criteria listed in this SGA. The panel results are advisory in nature and are not binding on the Grant Officer. The Government may elect to award the grant with or without discussions with the offeror. In situations without discussions, an award will be based on the offeror's signature on the SF-424, which constitutes a binding offer. All applications must include the required elements. The Grant Officer will make final award decisions based upon what is most advantageous to the Federal Government in terms of geographic mix, technical quality, justification and evidence of activities included in the management and design of the projects.

Each criteria listed below incorporates the statement of work components/elements.

A. Project Design—Activities and Outcomes (30 points)

B. Consortium Membership and Coordination (30 points)

C. Information Technology Grant Participants (20 points)

D. Management and Administration (20 points)

A. Project Design—Activities and Outcomes (30 points)

1. Purpose and Scope of the Project

Describe the specific purpose or purposes of the proposed project. Explain how the proposed project will be applicable to disability issues of national scope and the potential for replication in other workforce areas. Also describe whether or how the proposed project is similar to or differs from the applicant's prior and current activities.

2. Training and Supportive Services

The program design should describe training, and services to be provided from the time of participant selection through placement in unsubsidized employment and follow-up. The design should describe in detail the kinds of skill training that will be offered, the method by which the training will be provided, and whether training will culminate in certification in one or more information technology concentrations. Training leading to employment in the following occupations may include, but is not limited to:

• Computer Support Specialist; Computer Operator; Computer Service Technician; Computer Aided Design Specialist; Network Control Operator; Electrical/Electronic Engineering Technician and Technologist; Data Processing Equipment Repairer, and Central Office and PBX Repairer.

Certifications in the following areas will be considered, but are not limited to:

• Computer Architecture and Structure, such as CompTIA's A+; Internet Skills, such as Website Development, CompTIA's i-Net+, Net+, HTML, and Java; Languages, such as Cobol, C, and C++; Networking, such as Help Desk, TCP/IP; Desktop Operating Systems, such as Windows 95, Windows 98, Windows ME, Windows NT, Windows 2000, Windows NT Workstation, Linux, and Unix; Local Area Network (LAN) Administration, such as Microsoft NT Server, Novell Netware, and Ethernet; and Software Applications, such as Microsoft Office Suite, and Corel WordPerfect Suite.

The use of exit competencies to detail specific technical knowledge and skill sets attained will also be considered. The scope and intensity of training curricula should also be clearly articulated to achieve desired goals and outcomes.

Design description should describe the role of the business community in an advisory capacity to the project, the extent to which they may provide internships or possible employment for successful participants, the extent to which they may serve as mentors, and their input into decisions on curricula and identification of trends and skill shortages.

Design description should include a rationale for additional activities and services in terms of overall project design, overcoming employment barriers of planned participants, and achieving quality employment outcomes in the information technology industry. Narratives should provide a clear understanding of services and supports needed for successful placement and job retention in the information technology industry. Descriptions should detail how the consortium will work together to achieve project goals and should also detail linkages with State and Local Workforce Investment Boards. Linkages may also include DOL's Work Incentive Grant programs, programs under Social Security's Ticket-To-Work and Work Incentives Improvement Act, and other work related incentives.

The program design must provide information on planned activities and services to participants, including per site if applicable. This must include the number of participants to be served in basic educational training, job skill training, or any job search assistance, on-the-job training, work readiness and work experience, and post-placement training and job retention services. Include how other employment barriers such as inadequate access to housing, transportation, medical coverage, and personal assistance services will be addressed.

Describe how project design has potential for replication in the workforce system at large and how it meets potential needs which are not available otherwise.

Program design may include a component which addresses aggressive employment outreach for individuals with disabilities who have previously acquired academic credentials or certifications in the skill areas identified above, but who have not been able to secure competitive employment because of their disability or the lack of effective linkages with the corporate and business community.

3. Employment Outcomes

Available Jobs. Based on labor market information, project design should describe information technology jobs that are expected to be available to participants upon completion of training and placement services, including prevailing wage levels, career potential and opportunities for advancement. Narrative should indicate what high tech occupations are the focus of project design. Include information on the number and type of jobs and the availability of qualified workers. The project design should also identify how and why job placement and retention for participant group will more likely occur as a result of the proposed project. Sources of information should be identified, and may include the Bureau of Labor Statistics, O*NET, America's Career Kit, State Occupational Information Coordinating Committees. Other resources regarding the information technology labor market may include the information technology associations, information technology industry employers, and other representatives of the local business community.

Planned Placements. The project design must indicate how many placements in unsubsidized, competitive employment are expected to result from activities at each site. Describe the quality of job placements in terms of entry wage or salary levels, long-term career potential, and the long-term growth of the occupations under consideration in the local area. Information on participant flow from intake, assessment, through placement should be provided indicating clearly when placement will occur. Program design should include post-placement follow-up of 90 days, 180 days, and 12 months.

Planned outcome information should be provided, including site specific information if applicable: (1) Number of terminees completing program; (2) number of placements in unsubsidized employment; (3) number of placements in full time employment (35 hours per week or more); and (4) the average hourly wage, and placements with durations of 180 days and more.

Applicants are also requested to provide an explanation, if applicable, on “temporary job” placements; and the extent to which program participants and/or recipients of SSDI/SSI are expected to transition to economic self-support in the mainstream workforce.

Applicants are requested to describe methods of ongoing assessment of “customer satisfaction” and how results will be used in project operation. The Department of Labor expects that applicants will achieve an entered employment rate of 55%. If applicant does not anticipate achieving this competitive placement level, an explanation should be provided on why this level may not be reached.

Special Wage Waivers Under Fair Labor Standards Act. Employment in jobs, and/or related training, approved for Special Minimum Wage Certificates under section 14(c) of the Fair Labor Standards Act (FLSA), as amended (29 U.S.C. 214) and it's implementing regulations at 29 CFR part 525 will not be considered as an allowable activity or outcome. Organizations receiving FLSA special wage certifications must provide assurances and verification that FLSA special wage training and placement are not incorporated within proposed project design. Employment outcomes must be at the prevailing wage and under no circumstances, below the applicable Federal or State minimum wage, whichever is higher.

B. Consortium and Other Coordination (30 points)

1. Consortium Membership

Identify and describe consortium members which must include the Local Board or One-Stop Center(s) in a public/private partnership with the information technology business sector, academic and other institutions of learning who are qualified to deliver the applicable skill training defined in Section III, A, 4 (Training and Supportive Services), and disability representation to address access and accommodations or outreach. Descriptions should include the following information for each consortium member:

1. Name of the consortium member.

2.The type of organization the consortium member represents and the member's primary mission.

3. Consortium member's area of expertise.

4. Consortium member's level of commitment to serve people with disabilities.

5. Consortium member's specific area of focus and contributions to the goals and objectives of this project.

6. Additional resources and funds the consortium member will bring to this project.

2. Coordination and Linkages

Describe the roles of consortium partners and their contribution to the project if not previously addressed. This should include how private non-profit and for-profit consortium members will work together to achieve the goals of this project. Describe the role of the business community and information technology associations in this project, including how information technology representatives and other members of the business community will serve in a business advisory capacity. If a business advisory board is established, identify the representatives expected to be on the board.

Describe any additional coordination with state and local entities, consumer organizations, and/or others in the design and implementation of the proposed project as appropriate. Applications should identify any planned coordination strategies with adult, dislocated worker and youth programs authorized under the Workforce Investment Act, Bureau of Apprenticeship Training, educational institutions, such as community colleges and vocational training schools, labor organizations, and information technology associations.

Other coordination efforts should address major employment obstacles such as insufficient medical coverage and/or other barriers to employment (e.g., access to assistive technology, transportation, personal assistance needs, job coach requirements, housing). Identify funds or resources to be contributed to the project by the applicant and/or partnership entities. Evidence should be presented demonstrating the cooperation of coordinating entities and the program design should include a reasonable method of assessing and reporting on the impact of that coordination. Consultation with and/or review by appropriate labor organizations, where applicable, is encouraged and should be documented.

C. Information Technology Grant Participants (20 points)

1. Target Population

Participants for the proposed project must be individuals with disabilities (i.e., physical, sensory, emotional, or mental functional impairments) as defined in section 3 of the Americans with Disabilities Act at 42 U.S.C. 12102. Describe the characteristics of the client population to which proposal is targeted including, where applicable: (1) Specific type(s) of disability, (e.g., psychiatric disorders, neurologic disorders); (2) specific subgroup of disabled population, (e.g., minority, youth, older workers); (3) why the project design will result in quality career and/or employment outcomes in the information technology industry; and (4) what innovative and coordinated approaches will be used to serve the target population. It is anticipated that a significant percentage of the population will require the use of assistive technology in both training and in the workplace.

Proposals must also provide the following planning information on the participants to be served in project design, in total and by project site:

• The number of participants,

• The age range of participants (e.g., under 22, 23-50, 51-65),

• The number of participants who receive Supplemental Security Income and/or Social Security Disability Income (SSI/SSDI),

• The number and percent of participants that will be qualified as dislocated workers.

Applicants may also provide other information about participants considered important such as educational level, number of minority or ethnic, etc.

2. Outreach and Recruitment

Describe how outreach and recruitment addresses the overall design of the project. Outreach and recruitment may address public service announcements, use of media, use of community-based organizations, and other service groups. Identify how workforce development systems, disability consumer organizations, and information technology associations will be used in the recruitment process. Describe how the target population will be recruited for participation at each site if utilizing a multi-site approach.

3. Eligibility

Describe the eligibility process for project participants. This includes the process for determining whether a participant is an individual with a disability and those with a significant disability (see Definitions).

4. Assessment

Describe the process for evaluating participants' skill levels, education levels, career interests, accommodation requirements, training and services, and other barriers and needs. Narrative should identify whether assessment will be conducted by the awardee or another service provider. Applicants should indicate whether and how the Test of Adult Basic Education (TABE) or an alternative assessment tool will be used to assess reading, mathematical skills, and other employment readiness skills to participate in this project, as applicable. Applicants should include how the project will address the remedial or preparatory training needs of the participants and how the project will address possible Learning Disabilities. Please note, the implementation of these assessments may require reasonable accommodation and use of Assistive Technology.

D. Management and Administration (20 points)

1. Management Structure

Describe the management structure for the proposed project. Applicants must identify the lead agency, provide a staffing plan from each of the Consortium entities, showing each position and the percentage of time assigned to the project. Provide an organizational chart showing the relationship between the management and operational components of the project and the overall organization. Include staff and operations projected for the project. Include resumes of current key staff. For each of the key staff not identified at the time of application, provide a job description or the qualifications sought for the position. Specific information on staff and organizational structure may be provided in the Appendix.

2. Program Integrity and Public Accountability

Describe the mechanisms to be used to ensure financial and program accountability in record keeping and reporting. The design must demonstrate oversight of project implementation and progress benchmarks. Describe how the project will keep records of activities and satisfy the administrative requirements set out under 29 CFR parts 95-99 as applicable.

The design must include a comprehensive discussion describing in detail, the types of information to be collected, methods and frequency of collections, and ways information will be used to implement and manage the program. The following must be covered:

(1) Program data collection and reporting systems to determine the achievement of project outcomes;

(2) Financial management systems to ensure fiscal accountability in accordance with statutory, regulatory, and contractual requirements;

(3) Communication processes and technology that will be utilized;

(4) Administrative process for each project site; and

(5) Grievance procedure.

3. Project Management

Awardee will be responsible for management and oversight of all activities under the grant. Identify the information on project performance and financial management to be collected on a short-term basis by project staff. Describe the process of on-site monitoring of each project site, including employer site visits, if applicable. Describe the process and procedures to be used to obtain feedback from participants, employers, and any other appropriate parties on the responsiveness and effectiveness of the services provided.

4. Grievance Procedures

Describe the grievance procedure to be used for grievances and complaints from participants, contractors, and other interested parties, consistent with requirements at 20 CFR part 667 subpart F.

5. Previous Project Management Experience

Provide objective evidence of the grant applicant's ability to manage this project, ensure the integrity of the grant funds, and deliver the proposed performance. Indicate the grant applicant's past management experience, particularly regarding oversight and operating functions including financial management and relevant audit or grant reviews of the organization. Provide references and/or contact persons of former or current funding organizations.

Part IV.—Government Requirements

A. Reporting Requirements

Applicants receiving awards under this solicitation will be required to submit financial, program, and participant reports on a quarterly and annual basis. Grantees will be required to submit (1) Activity and Placement Report (APR) on the number of participants being served, activities and services provided, and placement outcomes; and (2) Participant Characteristics Report (PCR) on age, race, type of disAbility, etc., of participants enrolled in the grantee's program. Narrative information on the grant program should be submitted quarterly with the APR. The narrative may include information on the status of project implementation, participant success stories during the reporting period, conferences or job fairs planned or held, meetings with employers related to placements, or other information of interest about the grant project. In addition to the APR and PCR, grantees are required to submit a Financial Status Report (FSR), SF 269. Report submissions to the Employment and Training Administration (ETA) are quarterly for the APR and FSR, and annually for the PCR following the end of the Fiscal Year. The APR, PCR and FSR forms and related instructions can be downloaded from ETA's disAbility Online website at: http://wdsc.org/disability (click on “Grantee Communication” to access these forms). Reports are due to ETA no later than 30 days after the last day of the report period.

B. Evaluation

The Department of Labor may conduct a quantitative and qualitative evaluation that provides an in-depth analysis and assessment of the grant program.

C. Departmental Oversight

DOL reserves the right to conduct programmatic and financial oversight/monitoring of grant and project sites.

D. Use of Federal Funds

Federal funds cannot be used to support activities that would be provided in the absence of these funds. Grant funds may cover only those costs that are appropriate and reasonable. Federal grant funds may only be used to acquire equipment that is necessary for the operation of the grant. Except as specifically provided, DOL/ETA acceptance of a proposal and an award of federal funds to sponsor any program(s) does not provide a waiver of any grant requirements and/or procedures. For example, the OMB circulars require, and an entity's procurement procedures must require that all procurement transactions shall be conducted, as practical, to provide open and free competition. If a proposal identifies a specific entity to provide the services, the DOL/ETA's award does not provide the justification or basis to sole-source the procurement, i.e., avoid competition.

Grantees must comply with all applicable Federal statutes, regulations, administrative requirements and OMB Circulars. For example, OMB Circular A-122, which applies to nonprofit organizations, requires prior approval for certain capital expenditures to be allowable as direct costs. Requests for prior approval, if applicable, may be included in the grant budget application or submitted after grant award.

Part V.—Definitions

For the purpose of this demonstration project, the following definitions apply to the specified terms, as used in this SGA:

Assistive Technology—The term “assistive technology” means technology designed to be utilized in an assistive technology device or assistive technology service. (29 USCA 3002(a)(2), the Assistive Technology Act of 1998).

Assistive Technology Device—The term “assistive technology device” means any item, piece of equipment, or product system, whether acquired commercially, modified, or customized, that is used to increase, maintain, or improve functional capabilities of individuals with disabilities.

Assistive Technology Service—The term “assistive technology service” means any service that directly assists an individual with a disability in the selection, acquisition, or use of an assistive technology device. Such term includes—

(A) The evaluation of the assistive technology needs of an individual with a disability, including a functional evaluation of the impact of the provision of appropriate assistive technology and appropriate services to the individual in the customary environment of the individual;

(B) Services consisting of purchasing, leasing, or otherwise providing for the acquisition of assistive technology devices by individuals with disabilities;

(C) Services consisting of selecting, designing, fitting, customizing, adapting, applying, maintaining, repairing, or replacing assistive technology devices;

(D) Coordination and use of necessary therapies, interventions, or services with assistive technology devices, such as therapies, interventions, or services associated with education and rehabilitation plans and programs;

(E) Training or technical assistance for an individual with disabilities, or, where appropriate, the family members, guardians, advocates, or authorized representatives of such an individual; and

(F) Training or technical assistance for professionals (including individuals providing education and rehabilitation services), employers, or other individuals who provide services to, employ, or are otherwise substantially involved in the major life functions of individuals with disabilities.

Basic Education—Training activities designed to enhance the employability of participants by upgrading basic skills (e.g., General Equivalency Diploma (GED), remedial education or training in English language proficiency).

Disability—See definition in section 3 of the Americans with Disabilities Act, (42 USC 12102(2)), and the requirements at 28 CFR 35.104.

Dislocated Worker—See definition in the Workforce Investment Act of 1998 section 101(9) which states that the term “dislocated worker” means and individual who—

(A)(i) Has been terminated or laid off, or who has received a notice of termination or layoff, from an employment;

(ii)(I) Is eligible for or has exhausted entitlement to unemployment compensation; or

(II) Has been employed for a duration sufficient to demonstrate, to the appropriate entity at a one-stop center referred to in section 134(c), attachment to the workforce, but is not eligible for unemployment compensation due to insufficient earnings or having performed services for an employer that were not covered under a State unemployment compensation law; and

(iii) Is unlikely to return to a previous industry or occupation;

(B)(i) Has been terminated or laid off, or has received a notice of termination or layoff, from employment as a result of any permanent closure of, or any substantial layoff of, a plan, facility, or enterprise;

(ii) Is employed at a facility at which the employer has made a general announcement that such a facility will close within 180 days; or

(iii) For purposes of eligibility to receive services other than training services described in section 134(d)(4), intensive services described in section 134(d)(3), or supportive services, is employed at a facility at which the employer has made a general announcement that such a facility will close;

(C) Was self-employed (including employment as a farmer, a rancher, or a fisherman) but is unemployed as a result of general economic conditions in the community in which the individual resides or because of natural disaster; or

(D) Is a displaced homemaker.

Individual with a Disability—See definition in the Workforce Investment Act section 101(17) (29 USC 2801(17)) which states: (A) In general.—The term “individual with a disability” means an individual with any disability as defined in section 3 of the Americans with Disabilities Act of 1990 (42 U.S.C. 12102)). (B) Individuals with disabilities.—The term “individuals with disabilities” means more than one individual with a disability.

Individual with a Significant Disability—See definition pursuant to WIA Title IV, section 403, which amends section 6(21) of the Rehabilitation Act, 29 USC 705(21).

Job Search Assistance—This includes, but is not limited to:

(1) Orientation to the world of work;

(2) Training/Job-related counseling and testing;

(3) Employability assessment (other than that involved during intake);

(4) Job development;

(5) Job search assistance;

(6) Job referral and placement.

Job Skills Training—Training conducted in an institutional setting, and designed to provide individuals with technical skills and information required to perform a specific job or group of jobs (e.g., vocational technical school, community college, etc.).

On-the-Job Training (OJT)—Training provided by an employer that is provided to a paid participant while engaged in productive work in a job that—

(A) Provides knowledge or skills essential to the full and adequate performance of the job;

(B) Provides reimbursement to the employer of up to 50 percent of the wage rate of the participant, for the extraordinary costs of providing the training and additional supervision related to the training; and

(C) Is limited in duration as appropriate to the occupation for which the participant is being trained, taking into account the content of the training, the prior work experience of the participant, and the service strategy of the participant, as appropriate (WIA section 101(31), 29 USC 2801(31)).

Post-Employment/Job Retention Services—Services which may include, but are not limited to, post placement follow-up activities, work site evaluation and accommodation assistance, and training services provided following placement in unsubsidized, competitive employment.

Unsubsidized/Competitive Employment—Non-grant or unsupported employment that includes, entry into the Armed Forces (including entry onto active duty from Reserve and National Guard units), entry into employment in a registered apprenticeship program, self-employment, etc. Employment performed on a full-time or part-time basis in an integrated setting in which wages/salaries are at or above the minimum wage. Employment with special wage provisions authorized under section 14(c) of the Fair Labor Standards Act (29 USC 214 and its implementing regulations at 29 CFR part 525) are not considered unsubsidized nor competitive for the purpose of this grant.

Work Experience (WE)—A planned, structured learning experience that takes place in a workplace for a limited period of time. Work experience may be paid or unpaid, as appropriate. A work experience workplace may be in the private for-profit sector, the non-profit sector, or the public sector. Labor standards apply in any work experience where an employee/employer relationship as defined by the Fair Labor Standards Act, exists (See 20 CFR 663.200(b)).

Signed at Washington, DC, this 5th day of April, 2001.
Laura A. Cesario,
Grant Officer.

Attachments

1. Appendix A—“Application for Federal Assistance” (Standard Form 424)

2. Appendix B—Budget Information Form

BILLING CODE 4510-30-P

[FR Doc. 01-8817 Filed 4-10-01; 8:45 am]

BILLING CODE 4510-30-C